DEPARTMENT OF HOMELAND SECURITY

Coast Guard

[Docket No. USCG-2010-0164]

National Boating Safety Advisory Council

AGENCY: Coast Guard, DHS.

ACTION: Committee management; Notice of meeting.

SUMMARY: The National Boating Safety Advisory Council (NBSAC) and its subcommittees will meet on April 15-17, 2010, in Arlington, VA. The meetings will be open to the public.

DATES: NBSAC will meet April 15, 2010, from 8 a.m. to 3 p.m. and on April 17, 2010, from 12 noon to 4 p.m. The Boats and Associated Equipment Subcommittee will meet on April 15, from 3:15 p.m. to 5 p.m. The Prevention through People Subcommittee will meet on April 16, 2010, from 8:30 a.m. to 10:45 a.m., and the Recreational Boating Safety Strategic Planning Subcommittee will meet on April 16, 2010, from 11 a.m. to 5 p.m. and on April 17, 2010, from 8:30 a.m. to 11:15 a.m. Please note that the meetings may conclude early if the Council has completed its business.

All written materials, comments, and requests to make oral presentations at the meetings should reach Mr. Jeff Ludwig by April 1, 2010, via one of the methods described in ADDRESSES. Requests to have a copy of your material distributed to each member of the Council prior to the meeting should reach Mr. Ludwig by April 1, 2010.

ADDRESSES: The meeting will be held at the Holiday Inn Arlington, 4610 N Fairfax Drive, Arlington, VA 22203.

Please send written material, comments, and requests to make oral presentations to Mr. Jeff Ludwig by one of the submission methods described below. All materials, comments, and requests must be identified by docket number [USCG-2010-0164].

Submission Methods: Please use only one of the following methods:

• Federal eRulemaking Portal: http://www.regulations.gov. Follow the instructions for submitting comments.

• E-mail: jeffrey.a.ludwig@uscg.mil. Include the docket number in the subject line of the message.

• Fax: (202) 372-1932.

• Mail: Mr. Jeff Ludwig, COMDT (CG-54221), 2100 2nd Street, SW., Stop 7581, Washington, DC 20593.

Instructions: All submissions received must include the words “U.S. Coast Guard” and docket number [USCG-2010-0164]. All submissions received will be posted without alteration at http://www.regulations.gov, including any personal information provided. Anyone can search the electronic form of comments received into any of our dockets by the name of the individual submitting the comment (or signing the comment, if submitted on behalf of an association, business, labor union, etc.) You may review a Privacy Act notice regarding our public dockets in the January 17, 2008 issue of the Federal Register (73 FR 3316).

Docket: For access to the docket to read background documents or submissions received by the NBSAC, go to http://www.regulations.gov.

FOR FURTHER INFORMATION CONTACT: Mr. Jeff Ludwig, COMDT (CG-54221), 2100 2nd Street, SW., Stop 7581, Washington, DC 20593; (202) 372-1061; Jeffrey.a.ludwig@uscg.mil.

SUPPLEMENTARY INFORMATION: Notice of this meeting is given under the Federal Advisory Committee Act, 5 U.S.C. App. (Pub. L. 92-463). NBSAC was established by the Federal Boat Safety Act of 1971. That law requires the Secretary of Homeland Security, and the Commandant of the Coast Guard by delegation, to consult with NBSAC in prescribing Federal regulations, and on other major matters regarding boating safety. See 46 U.S.C. 4302(c) and 13110(c).

NBSAC will meet for the purpose of discussing issues related to recreational boating safety.

A. Tentative Agendas of Meetings

National Boating Safety Advisory Council (NBSAC)

Thursday, April 15, 2010:

(1) Remarks—Mr. James P. Muldoon, NBSAC Chairman;

(2) Chief, Office of Auxiliary and Boating Safety Update on NBSAC Resolutions and Recreational Boating Safety Program report.

(3) Executive Secretary's report.

(4) Chairman's session.

(5) TSAC Liaison's report.

(6) NAVSAC Liaison's report.

(7) National Association of State Boating Law Administrators report.

(8) BIRMC Liaison's report.

(9) Boats and Associated Equipment Subcommittee meeting.

Friday, April 16, 2010:

(10) Prevention through People Subcommittee meeting.

(11) Recreational Boating Safety Strategic Planning Subcommittee meeting.

Saturday, April 17, 2010:

(12) Recreational Boating Safety Strategic Planning Subcommittee meeting (Cont.).

(13) Prevention through People Subcommittee report.

(14) Boats and Associated Equipment Subcommittee report.

(15) Recreational Boating Safety Strategic Planning Subcommittee report.

(16) Chairman's session.

A more detailed agenda can be found at: http://homeport.uscg.mil/NBSAC, after April 9, 2010.

B. NBSAC Subcommittees

Prevention Through People Subcommittee: Discuss current regulatory projects, grants, contracts, and new issues affecting the prevention of boating accidents through outreach and education of boaters.

Boats and Associated Equipment Subcommittee: Discuss current regulatory projects, grants, contracts, and new issues affecting boats and associated equipment.

Recreational Boating Safety Strategic Planning Subcommittee: Discuss current status of the strategic planning process and any new issues or factors that could impact, or contribute to, the development of the strategic plan for the recreational boating safety program.

C. Meeting Procedure

This meeting is open to the public. At the discretion of the Chair, members of the public may make oral presentations during the meeting. If you would like to make an oral presentation at the meeting, please notify Mr. Jeff Ludwig as described in the ADDRESSES section above. If you would like a copy of your material distributed to each member of the Council in advance of the meeting, please submit thirty (30) copies to Mr. Jeff Ludwig by April 1, 2010.

Please note that the meeting may conclude early if all business is finished.

D. Information on Services for Individuals With Disabilities

For information on facilities or services for individuals with disabilities or to request special assistance at the meeting, contact Mr. Jeff Ludwig as described in the ADDRESSES section above as soon as possible.

Dated: March 15, 2010.
K.S. Cook,
Rear Admiral, U.S. Coast Guard, Director of Prevention Policy.

[FR Doc. 2010-6027 Filed 3-18-10; 8:45 am]

BILLING CODE 9110-04-P